DEPARTMENT OF EDUCATION

Homeless Education Disaster Assistance Program (CFDA No. 84.383A)

AGENCY: Office of Elementary and Secondary Education, Department of Education.

ACTION: Notice inviting applications.

SUMMARY: The Homeless Education Disaster Assistance program is a new, one-year program authorized under the Consolidated Security, Disaster Assistance, and Continuing Appropriations Act, 2009. This program provides assistance to local educational agencies (LEAs) or consortia of LEAs located within the same State whose enrollment of homeless students has increased as a result of a natural disaster that occurred in calendar year 2008 (2008).

DATES: Application Deadline: February 9, 2009, 4:30:00 p.m. Eastern time.

SUPPLEMENTARY INFORMATION: Under this program, the Department will award funds directly to eligible LEAs based on demonstrated need. (Except where specifically noted, the term LEA as used in this notice refers to a single LEA or a consortium of LEAs located in the same State.) In determining an LEA's need for assistance, the Department will consider the number of students enrolled in the LEA in kindergarten through grade twelve who became homeless as a result of a natural disaster (as defined elsewhere in this notice) that occurred in 2008. To be eligible for funding under this program, an LEA (individually or in consortium) must have at least fifty of these homeless students enrolled.

The LEA must use program funds to support activities that are allowable under section 723(d) of the McKinney-Vento Homeless Assistance Act (42 U.S.C. 11433(d)). The services provided must comply with paragraphs (2) and (3) of section 723(a) of that law, and the LEA must comply with paragraphs (3) through (7) of section 722(g) of the law. The LEA may use program funds to assist any homeless individual, of school or pre-school age in the LEA, and not just those students who became homeless as a result of a natural disaster. The LEA may use the funds to support future activities, as well as to reimburse itself for costs incurred in carrying out activities during 2008 or 2009, designed to help homeless students enroll in, attend, or succeed in school. The funds will remain available for obligation by an LEA through September 30, 2010.

Eligible Applicants: Under this program, eligible applicants are LEAs that have a total of at least fifty students enrolled in one or more grades, kindergarten through grade twelve, who became homeless as a result of a natural disaster that occurred during 2008. Due to the limited amount of funding available under this program, only LEAs or consortia that meet this minimum threshold are eligible for a grant.

Required submission of eligibility information: As part of its application, the LEA must submit data, for which it has verifiable and auditable documentation, on the number of students enrolled in kindergarten through grade twelve in the LEA who became homeless as a result of a natural disaster that occurred during 2008. If a group of LEAs applies for these funds as a consortium, the LEA members of the group must designate one member to submit with the application data on the number of students enrolled in kindergarten through grade twelve in all of the consortium member LEAs and who became homeless as a result of a natural disaster that occurred in 2008. For purposes of this program, the count of enrolled students who became homeless as a result of a natural disaster that occurred in 2008 can include: Students already enrolled in the LEA who became homeless due to a natural disaster, or students made homeless by a natural disaster who are identified as such at the time of enrollment in the LEA.

Determination of award amount: Congress has appropriated $15 million for this program. The Department will award these funds, based on demonstrated need, to eligible LEAs that submit applications that meet the requirements of this notice and of the application package. Each LEA will receive a proportionate share of funds based on the number of students enrolled in the LEA in kindergarten through grade twelve who became homeless as a result of a natural disaster that occurred in 2008. Specifically, the Department will calculate each LEA's award amount based on the quotient obtained by dividing the number of its students enrolled in kindergarten through grade twelve who became homeless as a result of a natural disaster that occurred in 2008 by the total number of such students for all eligible LEAs submitting an application.

For consortia of LEAs that apply for funds, the Department will treat each consortium as a single LEA when determining grant award amounts. The designated LEA that submits an application to the Department on behalf of the consortium members must (a) distribute any funds received by the consortium to each member LEA based on its proportionate share of the total number of children made homeless as a result of a natural disaster in 2008 for the consortium as a whole, or (b) distribute the funds based on an alternative need-based method agreed upon in writing by all member LEAs.

Definition of natural disaster: For purposes of this program, a natural disaster is defined as a disaster for which the President declared a major disaster under title IV of the Robert T. Stafford Disaster Relief and Emergency Assistance Act of 1974. Those disasters are listed on the Web site of the Federal Emergency Management Agency (FEMA) at http://www.fema.gov/news/disasters.fema?year=2008.

Applicable Regulations: The Education Department General Administrative Regulations (EDGAR) in 34 CFR parts 75, 77, 79, 80, 81, 82, 84, 85, 98, and 99.

Note: The regulations in 34 CFR part 79 apply to all applicants except federally recognized Indian tribes.

Waiver of Proposed Rulemaking: Under the Administrative Procedure Act (APA) (5 U.S.C. 553), the Department generally offers interested parties the opportunity to comment on proposed program requirements. Section 437(d)(2) of the General Education Provisions Act (20 U.S.C. 1232(d)(2)), however, allows the Secretary of Education to exempt from rulemaking requirements regulations where the Secretary determines that conducting rulemaking would cause extreme hardship to the intended beneficiaries of the program or programs affected by the regulations.

The Secretary has determined that conducting rulemaking for the Homeless Education Disaster Assistance program, including rulemaking on an LEA's eligibility for assistance and the process for allocating funds, would cause extreme hardship to the beneficiaries of the program. LEAs throughout the country have needs and expenses related to educating students who became homeless as a result of natural disasters that occurred in 2008. It is essential, therefore, that the Department award funding under the program at the earliest possible date. Furthermore, the legislation authorizing the program recognizes the need for timely awards and directs the Department to make grants to LEAs on the basis of demonstrated need within 120 days of the date of enactment of that legislation. LEAs need sufficient time to collect and submit data that demonstrate their need for assistance. In order to avoid harm and hardship to applicants under the program, and to the students they are serving, the Secretary is waiving rulemaking for this program.

Application and Submission Information: To receive funding, an eligible LEA must submit an application electronically by the deadline established in this notice. Submission of an electronic application involves the use of the Department's Electronic Grant Application System (e-Application) accessible through the Department's e-Grants system.

You can access the electronic application for the Homeless Education Disaster Assistance program at: http://e-grants.ed.gov.

Once you access this site, you will receive specific instructions regarding the information to include in your application.

The regular hours of operation of the e-Grants Web site are 6 a.m. Monday until 7 p.m. Wednesday; and 6 a.m. Thursday until 8 p.m., Sunday (Washington, DC time). Any modifications to these hours are posted on the e-grants Web site.

FOR FURTHER INFORMATION CONTACT: Mr. John McLaughlin, U.S. Department of Education, 400 Maryland Avenue, SW., room 3C130, Washington, DC 20202. Telephone: (202) 260-0826 or via e-mail at john.mclaughlin@ed.gov.

If you use a telecommunications device for the deaf (TDD), call the Federal Relay Service (FRS), toll-free, at 1-800-877-8339.

Individuals with disabilities can obtain this notice in an accessible format (e.g., braille, large print, audiotape, or computer diskette) on request to the contact person listed in this section.

Electronic Access To This Document: You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO Access at: http://www.gpoaccess.gov/nara/index.html.

Program Authority: Consolidated Security, Disaster Assistance, and Continuing Appropriations Act, 2009 at Div. B, Title I, Chapter 7, Pub. L. 110-329, 122 Stat. 3595 (Sept. 30, 2008).

Dated: January 6, 2009.
Kerri L. Briggs,
Assistant Secretary for Elementary and Secondary Education.

[FR Doc. E9-237 Filed 1-8-09; 8:45 am]

BILLING CODE 4000-01-P